ENVIRONMENTAL PROTECTION AGENCY

[MN87; FRL-8013-2]

Notice of Issuance of Prevention of Significant Deterioration Permit to Grand Casino Mille Lacs

AGENCY: Environmental Protection Agency.

ACTION: Notice.

SUMMARY: This notice announces that, on October 13, 2005, the Environmental Protection Agency (EPA), Region 5, issued a Prevention of Significant Deterioration (PSD) permit to Great Lakes Band Corporate Commission (Grand Casino Mille Lacs). This permit authorizes the company to change the method of operation of the three existing diesel-fired engine-generator sets (generators) to provide peak load management and back-up power to the Grand Casino Resort and Hotel (the Facility). The Facility is located on land that is held in trust for the Mille Lacs Band of Ojibwe Indians in Mille Lacs County, Minnesota.

DATES: During the public comment period, ending July 22, 2005, EPA received no comments on the draft PSD permit. Therefore, in accordance with 40 CFR 124.15, this permit became effective immediately upon permit issuance, October 13, 2005, and EPA has issued it as final.

ADDRESSES: The final signed permit is available for public inspection online at http://www.epa.gov/region5/air/permits/epermits.htm or during normal business hours at the following address: EPA, Region 5, 77 West Jackson Boulevard (AR-18J), Chicago, Illinois 60604.

FOR FURTHER INFORMATION CONTACT: Richard Angelbeck, EPA, Region 5, 77 W. Jackson Boulevard (AR-18J), Chicago, Illinois 60604, (312) 886-9698, or angelbeck.richard@epa.gov.

SUPPLEMENTARY INFORMATION: This supplemental information is organized as follows:

A. What Is the Background Information?

B. What Action Is EPA Taking?

A. What Is the Background Information?

The subject generator sets are owned by Grand Casino Mille Lacs. These generators had been used solely as back-up generators. This permit will now allow the generators to be put onto the peaking program of the local utility, as well as to continue to provide emergency power for Grand Casino Mille Lacs. The total generation capacity of the generators is 5.4 megawatts (MW). Electricity generated at the Facility is not sold for distribution.

Since the potential emissions of nitrogen oxides (NOX) from the three generators were projected to be greater than 250 tons per year, in accordance with 40 CFR 52.21(b)(1), the Facility is considered a major stationary source and subject to the PSD permitting requirements. As required by 40 CFR part 52, Grand Casino Mille Lacs applied to EPA for a PSD permit and conducted a Best Available Control Technology (BACT) analysis, an air quality analysis, and an additional impact analyses. The federal PSD permit (No. PSD-ML-R50007-05-01) that EPA issued to Grand Casino Mille Lacs contains all applicable part 52 requirements. Among the permit's terms is a 300-hour-per-year operating limit on all generators combined, restricting the Facility's potential to emit NOX.

In accordance with the requirements of 40 CFR 124.15, EPA provided the public with 30 days to comment on the draft permit. EPA received no comments. Consequently, EPA finalized the permit and provided copies to the applicant, pursuant to 40 CFR 124.15.

B. What Action Is EPA Taking?

EPA is notifying the public of the issuance of the PSD permit to Grand Casino Mille Lacs.

Dated December 9, 2005.
Bharat Mathur,
Acting Regional Administrator, Region 5.

[FR Doc. E5-7695 Filed 12-21-05; 8:45 am]

BILLING CODE 6560-50-P